DEPARTMENT OF THE INTERIOR

National Park Service

Notice of Intent to Repatriate Cultural Items: Seton Hall University Museum, Seton Hall University, South Orange, NJ

AGENCY: National Park Service, Interior.

ACTION: Notice.

Notice is here given in accordance with the Native American Graves Protection and Repatriation Act (NAGPRA), 25 U.S.C. 3005, of the intent to repatriate cultural items in the possession of the Seton Hall University Museum, Seton Hall University, South Orange, NJ, that meet the definition of “sacred objects” and “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The Seton Hall University Museum professional staff consulted with representatives of the Onondaga Nation of New York and Tuscarora Nation of New York. Requests for consultation were sent to the Cayuga Nation of New York; Oneida Nation of New York; Oneida Tribe of Indians of Wisconsin; Saint Regis Mohawk Tribe, New York (formerly the St. Regis Band of Mohawk Indians of New York); Seneca-Cayuga Tribe of Oklahoma; Tonawanda Band of Seneca Indians of New York; and Haudenosaunee Standing Committee on Burial Rules and Regulations, non-federally recognized Indian organization representing Indian Nation members of the Haudenosaunee Confederacy, but they did not participate in consultations.

The two cultural items are False Face masks or medicine faces. The first mask was obtained from the Six Nations Reserve in Ontario by Mr. Samuel Tarrant of Newark, NJ (catalog number 2349). It is not known when or how Mr. Tarrant obtained it. The Seton Hall University Museum purchased it from Mr. Tarrant sometime in 1962 or 1963.

The second mask was donated to the Museum in 1992 by Dr. Herbert Kraft, then Director of the Museum (catalog number 92-3-6). It is not known how, when or where Mr. Kraft obtained the mask.

Other than the attribution of one mask to the Six Nations Reserve, and both typologically to the Iroquois (Haudenosaunee), more specific cultural affiliation of the masks to any one particular nation of the Haudenosaunee is not possible by the museum. The Haudenosaunee Confederacy includes the Mohawk, Oneida, Onondaga, Cayuga, Seneca, and Tuscarora Nations. According to Haudenosaunee culture and traditions, the Onondaga Nation is the keeper of the central hearth and fire where the Grand Council of the Confederacy meets. As the keeper of the central fire, the Onondaga Nation is obligated to care for and return to the appropriate Nation, Haudenosaunee cultural objects that are not specifically affiliated with any one Haudenosaunee Nation. Written evidence of Haudenosaunee oral tradition presented during consultation identifies the False Face masks as being sacred objects needed by traditional Haudenosaunee religious leaders and objects of cultural patrimony that have ongoing historical, traditional, and cultural significance to the group and could not have been alienated by a single individual.

Officials of the Seton Hall University Museum have determined that, pursuant to 25 U.S.C. 3001 (3)(C), the two cultural objects described above are specific ceremonial objects needed by traditional Native American religious leaders for the practice of traditional Native American religions by their present-day adherents. Officials of the Seton Hall University Museum also have determined that, pursuant to 25 U.S.C. 3001 (3)(D), the two cultural items described above have ongoing historical, traditional, or cultural importance central to the Native American group or culture itself, rather than property owned by an individual. Lastly, officials of the Seton Hall University Museum have determined that, pursuant to 25 U.S.C. 3001 (2), there is a relationship of shared group identity that can be reasonably traced between the sacred objects/objects of cultural patrimony and the Cayuga Nation of New York; Oneida Nation of New York; Oneida Tribe of Indians of Wisconsin; Onondaga Nation of New York; Seneca Nation of New York; Seneca-Cayuga Tribe of Oklahoma; Saint Regis Mohawk Tribe, New York; Tonawanda Band of Seneca Indians of New York; and Tuscarora Nation of New York.

Representatives of any other Indian tribe or Nation that believes itself to be culturally affiliated with the sacred objects/objects of cultural patrimony should contact Dr. Thomas W. Kavanagh, Seton Hall University Museum, Seton Hall University, 400 South Orange Ave., South Orange, NJ 07079, telephone (973) 375-5873, before June 23, 2008. Repatriation of the sacred objects/objects of cultural patrimony to the Onondaga Nation of New York may proceed after that date if no additional claimants come forward.

The Seton Hall University Museum is responsible for notifying the Cayuga Nation of New York; Oneida Nation of New York; Oneida Tribe of Indians of Wisconsin; Onondaga Nation of New York; Seneca Nation of New York; Seneca-Cayuga Tribe of Oklahoma; Saint Regis Mohawk Tribe, New York; Tonawanda Band of Seneca Indians of New York; Tuscarora Nation of New York; and Haudenosaunee Standing Committee on Burial Rules and Regulations, a non-federally recognized Indian organization, that this notice has been published.

Dated: April 29, 2008.
Sherry Hutt,
Manager, National NAGPRA Program.

[FR Doc. E8-11572 Filed 5-22-08; 8:45 am]

BILLING CODE 4312-50-S